DEPARTMENT OF COMMERCE

International Trade Administration

[A-570-847]

Persulfates From the People's Republic of China: Final Results of Antidumping Duty Administrative Review

AGENCY: Import Administration, International Trade Administration, Department of Commerce.

SUMMARY: On August 10, 2005, the Department of Commerce (“the Department”) published the preliminary results of the antidumping duty administrative review of persulfates from the People's Republic of China (“the PRC”). This review covers one exporter of the subject merchandise, Shanghai AJ Import and Export Corporation (“Shanghai AJ”). The period of review (“POR”) is July 1, 2003, through June 30, 2004. We invited interested parties to comment on our preliminary results. Based on our analysis of the comments received, we have made certain changes to our calculations. The final weighted-average dumping margin for this review is listed in the “Final Results of Review” section below.

EFFECTIVE DATE: February 14, 2006.

FOR FURTHER INFORMATION CONTACT: Tisha Loeper-Viti or Frances Veith, AD/CVD Operations, Office 8, Import Administration, International Trade Administration, U.S. Department of Commerce, 14th Street and Constitution Avenue, NW., Washington, DC 20230; telephone: (202) 482-7425 and (202) 482-4295, respectively.

SUPPLEMENTARY INFORMATION:

Background

On July 7, 1997, the Department published in the Federal Register the antidumping duty order on persulfates from the PRC. See Notice of Antidumping Duty Order and Amended Final Determination of Sales at Less Than Fair Value: Persulfates From the People's Republic of China, 62 FR 36259 (July 7, 1997). On July 1, 2004, the Department published a notice of opportunity to request an administrative review of the antidumping duty order on persulfates from the PRC for the period July 1, 2003, through June 30, 2004. See Antidumping or Countervailing Duty Order, Finding, or Suspended Investigation; Opportunity To Request Administrative Review, 69 FR 39903 (July 1, 2004). On July 30, 2004, FMC Corporation (FMC), a domestic producer, requested an administrative review of Shanghai AJ. No other interested party submitted a request for a review. On September 22, 2004, the Department published in the Federal Register a notice of the initiation of the administrative review of the order on persulfates from the PRC for the period July 1, 2003, through June 30, 2004. See Initiation of Antidumping and Countervailing Duty Administrative Reviews and Request for Revocation in Part, 69 FR 56745 (September 22, 2004).

On March 25, 2005, the Department published a notice in the Federal Register extending the time limit for the preliminary results of this review to August 1, 2005. See Notice of Extension of Time Limit for the Preliminary Results of the 2003-2004 Antidumping Duty Administrative Review: Persulfates From the People's Republic of China, 70 FR 15293 (March 25, 2005). The Department published the preliminary results on August 10, 2005. See Persulfates From the People's Republic of China: Preliminary Results of Antidumping Duty Administrative Review, 70 FR 46476 (August 10, 2005) (“Preliminary Results”).

We invited parties to comment on the preliminary results of review. See Preliminary Results, 70 FR at 46480. On September 23, 2005, the Department received case briefs from FMC and Shanghai AJ. On September 30, 2005, the Department received rebuttal briefs from FMC and Shanghai AJ. The Department conducted a public hearing on October 7, 2005, at the main Commerce building. On January 12, 2006, we issued a memorandum to all interested parties requesting comments regarding a change in the Department's calculated regression-based wage rate. See January 12, 2006, Memorandum from Tisha Loeper-Viti to the File Re: 2003-2004 Administrative Review of the Antidumping Duty Order on Persulfates from the People's Republic of China (PRC): Expected PRC Wage Rate 2003 Income Data. No parties provided comments. On February 2, 2006, we issued a letter to all interested parties requesting comments regarding changes to the Department's calculation of surrogate financial ratios. See February 2, 2006, letter from Wendy J. Frankel to All Interested Parties Re: 2003-2004 Administrative Review of the Antidumping Duty Order on Persulfates from the People's Republic of China Calculation of Surrogate Financial Ratios. We received comments from FMC on February 3, 2006. Shanghai AJ did not comment on this issue. The Department has conducted this administrative review in accordance with section 751 of the Tariff Act of 1930, as amended (“the Act”).

Scope of the Order

The products covered by this order are persulfates, including ammonium, potassium, and sodium persulfates. The chemical formula for these persulfates are, respectively, (NH4)2S2O8, K2S2O8, and Na2S2O8. Potassium persulfates are currently classifiable under subheading 2833.40.10 of the Harmonized Tariff Schedule of the United States (“HTSUS”). Sodium persulfates are classifiable under HTSUS subheading 2833.40.20. Ammonium and other persulfates are classifiable under HTSUS subheadings 2833.40.50 and 2833.40.60. Although the HTSUS subheadings are provided for convenience and customs purposes, the written description of the scope of this order is dispositive.

Separate Rates

Shanghai AJ has requested a separate, company-specific antidumping duty rate. In our preliminary results, we found that Shanghai AJ had met the criteria for the application of a separate antidumping duty rate. See Preliminary Results, 70 FR at 46478. We have not received any other information since the preliminary results which would warrant reconsideration of our separate-rates determination with respect to this company. Therefore, we have assigned an individual dumping margin to Shanghai AJ for this administrative review.

Analysis of Comments Received

All issues raised in the case briefs by parties to this administrative review are addressed in the Issues and Decision Memorandum (“Decision Memo”) from Stephen J. Claeys, Deputy Assistant Secretary for Import Administration, to David M. Spooner, Assistant Secretary for Import Administration, dated February 6, 2006, which is hereby adopted by this notice. A list of the issues which parties have raised and to which we have responded, all of which are in the Decision Memo, is attached to this notice as an Appendix. The Decision Memo is a public document which is on file in the Central Records Unit in Room B-099 of the main Commerce Building. In addition, a complete version of the Decision Memo can be accessed directly on the Web at http://ia.ita.doc.gov. The paper copy and electronic version of the Decision Memo are identical in content.

Changes From the Preliminary Results

For purposes of the final results, we have made certain changes in the margin calculation for Shanghai AJ. For a discussion of these changes, see the “Margin Calculations” section of the Decision Memo.

Final Results of Review

As a result of our review, we determine that the following weighted-average percentage margin exists for persulfates from the PRC for the period July 1, 2003, through June 30, 2004:

Manufacturer/exporter | Margin (percent)
Shanghai AJ Import and Export Corporation | 36.53

Assessment Rates

The Department shall determine, and U.S. Customs and Border Protection (“CBP”) shall assess, antidumping duties on all appropriate entries. In accordance with 19 CFR 351.212(b)(1), we have calculated importer (or customer)-specific ad valorem rates by aggregating the dumping margins calculated for all U.S. sales to that importer (or customer) and dividing this amount by the total value of the sales to that importer (or customer). Where an importer (or customer)-specific ad valorem rate is greater than de minimis and the respondent has reported reliable entered values, we applied the assessment rate to the entered value of the importer's/customer's entries during the review period. Where an importer (or customer)-specific ad valorem rate is greater than de minimis and we do not have entered values, we calculated a per-unit assessment rate by aggregating the dumping duties due for all U.S. sales to each importer (or customer) and dividing this amount by the total quantity sold to that importer (or customer). The Department will issue appropriate assessment instructions directly to CBP within 15 days of publication of these final results of review.

Cash Deposit Requirements

The following deposit requirements will be effective for all shipments of persulfates from the PRC entered, or withdrawn from warehouse, for consumption on or after the publication date of these final results of administrative review, as provided by section 751(a) of the Act: (1) for Shanghai AJ, the cash-deposit rate will be 36.53 percent; (2) for previously reviewed or investigated companies not listed above that have separate rates, the cash-deposit rate will continue to be the company-specific rate published for the most recent period; (3) the cash-deposit rate for all other PRC exporters will be 119.02 percent, the PRC-wide rate established in the less-than-fair-value investigation; and (4) the cash-deposit rate for non-PRC exporters of subject merchandise from the PRC will be the rate applicable to the PRC exporter that supplied that exporter. These deposit requirements, when imposed, shall remain in effect until publication of the final results of the next administrative review.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This determination is issued and published in accordance with sections 751(a)(1) and 777(i)(1) of the Act.

Dated: February 6, 2006.
David M. Spooner,
Assistant Secretary for Import Administration.

Appendix

Comments and Responses

Comment 1: Whether to Use Financial Data from Indian Peroxide Producers to Derive Surrogate Financial Ratios

Comment 2: Whether to Include Financial Data from Gujarat Alkalies and Chemicals Co., Ltd. to Derive Surrogate Financial Ratios

Comment 3: Whether to Include Employee Benefits in Overhead Calculation

Comment 4: Surrogate Labor Rate

Comment 5: Surrogate Value for Water

Comment 6: Surrogate Value for Electricity

Comment 7: Surrogate Value for Caustic Soda

Comment 8: Whether the Department Should Apply Total Adverse Facts Available

Comment 9: Whether the Department Should Disregard as Untimely Certain Record Information

Comment 10: Whether the Department Should Reopen the Record to New Factual Information

Comment 11: Application of Adverse Facts Available in Preliminary Results Margin Program

[FR Doc. E6-2088 Filed 2-13-06; 8:45 am]

BILLING CODE 3510-DS-S